DEPARTMENT OF ENERGY

Federal Energy Regulatory Commission

[Project No. 2740-053]

Duke Energy Carolinas, LLC; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: New Major License.

b. Project No.: 2740-053.

c. Date Filed: July 14, 2025.

d. Applicant: Duke Energy Carolinas LLC (Duke Energy).

e. Name of Project: Bad Creek Pumped Storage Project (Bad Creek Project).

f. Location: Adjacent to Lake Jocassee, Oconee County, South Carolina.

g. Filed Pursuant to: Federal Power Act, 16 U.S.C. 791(a)-825(r).

h. Applicant Contact: Alan Stuart, Hydro Licensing Project Manager, Duke Energy Carolinas, LLC, Mail Code DEP-35B, 525 South Tryon Street, Charlotte, NC 28202; (980) 373-2079; alan.stuart@duke-energy.com.

i. FERC Contact: Sarah Salazar at (202) 502-6863, or sarah.salazar@ferc.gov.

j. Deadline for filing motions to intervene and protests, comments, recommendations, terms and conditions, and prescriptions: April 28, 2026, by 5:00 p.m. (EST) (60 days from the issuance date of this notice); reply comments are due June 12, 2026, by 5:00 p.m. (EST) (105 days from the issuance date of this notice).

The Commission strongly encourages electronic filing. Please file motions to intervene and protests, comments, recommendations, terms and conditions, and prescriptions using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Bad Creek Project (P-2740-053).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The existing Bad Creek Pumped Storage Project includes: (1) a 363-acre upper reservoir with a storage capacity of 35,513 acre-feet, of which 31,808 acre-feet is usable storage capacity between minimum elevation 2,150 feet mean sea level (msl) and full pond elevation of 2,310 feet msl; (2) a rockfill dam across Bad Creek with crest elevation at 2,315 feet msl, 2,581 feet long, and 360 feet high; (3) a rockfill dam across West Bad Creek with crest elevation at 2,315 feet msl, 908 feet long and 170 feet high; (4) a saddle dike across a natural depression on the eastern rim of the reservoir with crest elevation at 2,313 feet msl, 960 feet long, and 90 feet high; (5) an ungated water intake structure in the upper reservoir; (6) a power tunnel totaling 5,026 feet long and 29.53 feet in diameter, connecting to four concrete, steel-lined penstocks about 386 feet long and varying from 13.78 to 8.43 feet in diameter; (7) an underground powerhouse containing four reversible pump-generating units, with a nameplate rating of 350,000 kilowatts each, for a total generating capacity of 1,400 megawatts (MW); (8) four concrete-lined draft tube tunnels about 316 feet long and 16.4 feet in diameter, connecting to two concrete-lined tailrace tunnels about 875 feet long and 24.61 feet in diameter; (9) an inlet/outlet structure equipped with four 20-foot by 30-foot, steel lift gates, located in the existing Lake Jocassee which serves as the lower reservoir; (10) transmission facilities consisting of (a) generator leads connecting the powerhouse to four above ground step-up transformers, (b) a 100-kV transmission line extending about 9.25 miles from the Bad Creek switchyard to the Jocassee switchyard, (c) a 525-kV transmission line extending about 9.25 miles from the Bad Creek switchyard to the Jocassee switchyard; and (11) appurtenant facilities. The project also includes an existing 4.8-mile-long road that leads from the project entrance to the powerhouse area near Lake Jocassee.

The project is an automated pumped storage plant where water is regularly moved from the upper reservoir to the lower reservoir during generation, and from the lower reservoir back to the upper reservoir during pumping. All water utilized for generation originates from the 7,980-acre lower reservoir (Lake Jocassee) which has a normal maximum elevation of 1,110 feet msl and normal minimum elevation of 1,080 feet msl. The project is licensed to operate on a weekly pump-storage cycle with the upper reservoir fluctuating between 2,310 feet msl (normal max. elevation) and 2,150 feet msl (normal min. elevation), resulting in a maximum drawdown of 160 feet and 31,808 acre-feet useable storage capacity. In practice, the project operates in a daily pump-storage cycle by maintaining the upper reservoir above 2,250 feet msl for approximately 97% of the time to maximize head and unit efficiency. The average annual generation of the project is about 1,884,685 MWh. The average annual energy required for pumping during the same period is about 2,398,114 MWh. The net energy consumption of the project is 513,429 MWh.

Duke Energy proposes to continue to operate and maintain the project as well as to construct, operate, and maintain a second generating facility, the Bad Creek II Complex, which would consist of a new: (1) upper reservoir inlet/outlet structure, (2) water conveyance system; (3) underground powerhouse; (4) powerhouse access tunnels; (5) lower reservoir inlet/outlet structure; (6) switchyard; (7) transformer yard; and (8) transmission line. The proposed powerhouse would include four new, reversible pump-turbine units with an installed generating and pumping capacity between 106 MW and 425 MW. Average annual generation would increase by up to 25,856 MWh. No modifications would be made to the existing upper and lower reservoirs. Duke Energy proposes a new project boundary that includes all lands necessary for access, or control of, the expanded project.

m. A copy of the application can be viewed on the Commission's website at http://www.ferc.gov, using the “eLibrary” link. Enter the docket number, excluding the last three digits in the docket number field, to access the document (i.e., P-2740). For assistance, please contact FERC Online Support (see item j above).

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on, or before, the specified comment date for the particular application.

All filings must (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

For public inquiries and assistance with making filings such as interventions, comments, or requests for rehearing, contact the Office of Public Participation at (202) 502-6595, or OPP@ferc.gov.

You may also register online at https://ferconline.ferc.gov/FERCOnline.aspx to be notified via email of new filings and issuances related to this or other pending projects. For assistance, please contact FERC Online Support (see item j above).

o. The applicant must file the following on or before 5:00 p.m. Eastern Time April 28, 2026: (1) a copy of the water quality certification; (2) a copy of the request for certification, including proof of the date on which the certifying agency received the request; or (3) evidence of waiver of water quality certification.

p. Final amendments to the application must be filed with the Commission on or before 5:00 p.m. Eastern Time March 30, 2026.

(Authority: 18 CFR 2.1)

Dated: February 27, 2026.
Debbie-Anne A. Reese,
Secretary.

[FR Doc. 2026-04267 Filed 3-3-26; 8:45 am]

BILLING CODE 6717-01-P